FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 10 a.m.

Date: November 9, 2004.

Place: 4th Floor, Conference Room, Federal Retirement Thrift Investment Board, 1250 H Street, NW., Washington, DC.

Status: Open.

Matters To Be Considered

1. Approval of the minutes of the March 23, 2004, meeting.

2. Report of the Executive Director on Thrift Savings Plan status.

3. Parallel call center/dedicated main frame computer and data center.

4. “Life” funds.

5. Legislation.

6. New business (spousal accounts).

7. Frequency of meetings.

For Further Information Contact: Elizabeth S. Woodruff, Committee Management Officer, on (202) 942-1660.

Dated: October 29, 2004.
Elizabeth S. Woodruff,
General Counsel, Federal Retirement Thrift Investment Board.

[FR Doc. 04-24599 Filed 11-3-04; 8:45 am]

BILLING CODE 6760-01-P